DEPARTMENT OF COMMERCE

National Oceanic and Atmospheric Administration

RIN 0648-XC16

Endangered and Threatened Species; Take of Anadromous Fish

AGENCY: National Marine Fisheries Service (NMFS), National Oceanic and Atmospheric Administration (NOAA), Commerce.

ACTION: Issuance of research permits.

SUMMARY: Permits1564, 1565, 1566, and 1567 were issued on November 29, 2006; all other permits in this notice were issued on June 30, 2007. All the research actions and the species they affect are listed in the SUPPLEMENTARY INFORMATION section below.

ADDRESSES: The permits, permit applications, and related documents are available for review during business hours by appointment at NMFS' Protected Resources Division, F/NWO3, 1201 NE., Lloyd Blvd., Suite 1100, Portland, OR. 97232-1274 (ph: 503-230-5400, fax: 503-230-5441).

FOR FURTHER INFORMATION CONTACT: Garth Griffin, Portland, OR (phone: 503-231-2005, fax: 503-230-5441, e-mail: Garth.Griffin@noaa.gov).

SUPPLEMENTARY INFORMATION:

Authority

The Endangered Species Act of 1973 (ESA) requires that permits and modifications be issued based on findings that such actions: (1) Are applied for in good faith; (2) would not operate to the disadvantage of the listed species that are the subject of the actions; and (3) are consistent with the purposes and policies set forth in section 2 of the ESA. Authority to take listed species is subject to conditions set forth in the permits. Permits and modifications are issued in accordance with, and are subject to, the ESA and NMFS' regulations governing listed fish and wildlife permits (50 CFR parts 222-226).

Species Covered in This Notice

The ESA-listed species/evolutionarily significant units (ESUs)/distinct population segments (DPSs) covered by this notice are identified below and listed in the subsequent table by the numbers that precede each of them in the following text:

(1) Threatened Puget Sound Chinook salmon (Oncorhynchus tshawytscha)

(2) Threatened Lower Columbia River (LCR) Chinook salmon (O. tshawytscha)

(3) Threatened Snake River (SR) spring/summer Chinook salmon (O. tshawytscha)

(4) Threatened SR fall Chinook salmon (O. tshawytscha)

(5) Endangered Upper Columbia River (UCR) spring-run Chinook salmon (O. tshawytscha)

(6) Threatened Upper Willamette River (UWR) Chinook salmon (O. tshawytscha)

(7) Threatened Hood Canal summer-run chum salmon (O. keta)

(8) Threatened Columbia River chum salmon (O. keta)

(9) Threatened LCR steelhead (O. mykiss)

(10) Threatened Middle Columbia River steelhead (O. mykiss)

(11) Threatened SR steelhead (O. mykiss)

(12) Threatened UWR steelhead (O. mykiss)

(13) Endangered UCR steelhead (O. mykiss)

(14) Threatened PS steelhead (O. mykiss)

(15) Endangered SR sockeye salmon (O. nerka)

(16) Threatened Ozette lake sockeye salmon (O. nerka)

(17) Threatened LCR coho salmon (O. kisutch)

(18) Threatened Southern Oregon-Northern California Coasts coho salmon (O. kisutch)

Table 1. Scientific Research Permit Actions Affecting Listed Pacific Salmonids
Permit Number | Affected Species/ESUs | Permittee | FEDERAL REGISTER Notice of Application Receipt
1135 | 9 | The United States Geological Survey (USGS) | 71 FR 44615 (August 7, 2006)
1175 | 1, 2, 9, 14,17 | The Gifford Pinchot national Forest | 71 FR 65474 (November 8, 2006)
1290 | 2, 3, 4, 5, 6, 8, 9, 10, 11, 12, 13, 15, 17 | The Northwest Fisheries Science Center (NWFSC) | 71 FR 44615 (August 7, 2006)
1313 | 1, 14 | Pentec Environmental | 71 FR 65474 (November 8, 2006)
1318 | 2, 3, 4, 5, 6, 8, 9, 10, 11, 12, 13, 15, 17 | Oregon Department of Fish and Wildlife (ODFW) | 71 FR 44615 (August 7, 2006)
1322 | 2, 3, 4, 5, 6, 8, 9, 10, 11, 12, 13, 15, 17 | NWFSC | 71 FR 44615 (August 7, 2006)
1330 | 2, 9, 17 | Weyerhauser Corporation | 71 FR 44615 (August 7, 2006)
333 | 6, 12 | Oregon State University | 71 FR 44615 (August 7, 2006)
1335 | 1, 2, 5, 6, 7, 8, 9, 10, 12, 13, 14, 17, 18 | The United States Forest Service | 71 FR 27710 (May 12, 2006)
1339 | 3, 11 | The Columbia River Inter-Tribal Fish Commission (CRITFC) | 72 FR 7769 (February 20, 2007)
1341 | 3, 15 | The Shoshone-Bannock Tribes | 72 FR 28683 (May 22, 2007)
1345 | 1, 3, 5, 10, 11, 13, 14 | The Washington Department of Fish and Wildlife (WDFW) | 72 FR 28683 (May 22, 2007)
1365 | 10 | The Confederated Tribes of the Umatilla Indian Reservation | 72 FR 28683 (May 22, 2007)
1372 | 1, 14 | Puget Sound Energy Corporation | 71 FR 65474 (November 8, 2006)
1379 | 2, 3, 4, 5, 9, 10, 11, 13, 15, 17 | CRITFC | 72 FR 7769 (February 20, 2007)
1386 | 1, 2, 3, 4, 5, 7, 8, 9, 10, 11, 13, 14, 16, 17 | The Washington Department of Ecology | 71 FR 65474 (November 8, 2006)
1423 | 5, 13 | The United States Fish and Wildlife Service | 72 FR 28683 (May 22, 2007)
1461 | 2, 3, 4, 5, 6, 8, 9, 10, 11, 13, 12, 17 | USGS | 71 FR 44615 (August 7, 2006)
1521 | 1, 2, 8, 9, 17 | Wyllie-Echeverria Associates | 71 FR 65474 (November 8, 2006)
1564 | 1 | The University of Washington | 71 FR 27710 (May 12, 2006)
1565 | 1, 2, 9, 17 | The U.S. National Park Service | 71 FR 27710 (May 12, 2006)
1566 | 1 | NWFSC | 71 FR 27710 (May 12, 2006)
567 | 1 | Ridolfi, Inc. | 71 FR 27710 (May 12, 2006)
1568 | 1, 14 | NWFSC | 71 FR 27710 (May 12, 2006)
1585 | 1, 7, 14 | The Washington Department of Natural Resources | 71 FR 65474 (November 8, 2006)
1586 | 1, 14 | NWFSC | 71 FR 65474 (November 8, 2006)
1587 | 1, 14 | USGS | 71 FR 65474 (November 8, 2006)
1588 | 1, 14 | USGS | 71 FR 65474 (November 8, 2006)
1590 | 1, 14 | The U.S. Army Corps of Engineers | 72 FR 7769 (February 20, 2007)
1598 | 1, 3, 4, 5, 7, 10, 11, 13,14, 15, 16 | The Washington Department of Transportation | 72 FR 7769 (February 20, 2007)
1611 | 10 | Confederated Tribes of Warm Springs Reservation, Oregon | 72 FR 28683 (May 22, 2007)
1612 | 5, 13 | Washington Trout | 72 FR 28683 (May 22, 2007)

Dated: August 24, 2007.
Angela Somma,
Chief, Endangered Species Division, Office of Protected Resources, National Marine Fisheries Service.

[FR Doc. E7-17350 Filed 8-30-07; 8:45 am]

BILLING CODE 3510-22-S